DEPARTMENT OF ENERGY

[Docket Nos. FE C&E 00-29, C&E 00-30 and C&E 00-31; Certification Notice-192]

Office of Fossil Energy; Notice of Filings of Coal Capability of Rumford Power Associates, L.P., Tiverton Power Associates, L.P. and Los Medanos Energy Center, LLC Powerplant and Industrial Fuel Use Act

AGENCY: Office of Fossil Energy, Department of Energy.

ACTION: Notice of filing.

SUMMARY: Rumford Power Associates, L.P., Tiverton Power Associates, L.P. and Los Medanos Energy Center, LLC submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW., Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in accordance with section 201(d).

Owner: Rumford Power Associates, L.P. (C&E 00-29).

Operator: Energy Management, Inc.

Location: Rumford, Maine.

Plant Configuration: Combined-cycle.

Capacity: 267 MW.

Fuel: Natural gas.

Purchasing Entities: Sold to the regional grid as a merchant plant.

In-Service Date: October 2000.

Owner: Tiverton Power Associates, L.P. (C&E 00-30).

Operator: Energy Management, Inc.

Location: Tiverton, Rhode Island.

Plant Configuration: Combined-cycle.

Capacity: 267 MW.

Fuel: Natural gas.

Purchasing Entities: Sold to the regional grid as a merchant plant.

In-Service Date: August, 2000.

Owner: Los Medanos Energy Center, LLC (C&E 00-31).

Operator: Calpine Corporation.

Location; Contra Costa County, CA.

Plant Configuration: Combined-cycle.

Capacity: 508 MW.

Fuel: Natural gas.

Purchasing Entities: To be sold on a merchant basis under power purchase agreements.

In-Service Date: July 8, 2001.

Issued in Washington, DC, November 16, 2000.
Anthony J. Como,
Deputy Director, Electric Power Regulation, Office of Coal & Power Im/Ex, Office of Coal & Power Systems, Office of Fossil Energy.

[FR Doc. 00-29891 Filed 11-22-00; 8:45 am]

BILLING CODE 6450-01-P